DEPARTMENT OF HEALTH AND HUMAN SERVICES

HEALTH RESOURCES AND SERVICES ADMINISTRATION

Advisory Council; Notice of Meeting

In accordance with section 10(a)(2) of the Federal Advisory Committee Act (Public Law 92-463), announcement is made of the following National Advisory body scheduled to meet during the month of February 2000.

Name: National Advisory Council on Migrant Health.

Date and Time: February 10, 2000; 9:00 a.m.-5:00 p.m.; February 11, 2000; 9:00 a.m.-5:00 p.m.

Place: Washington Monarch Hotel, 2401 M Street, N.W., Washington, D.C. 20037, Phone: (202) 429-2400; Fax: (202) 457-5010.

The meeting is open to the public.

Agenda: The agenda includes an overview of general Council business activities and priorities. Topics of discussion will include the H-2 Guestworker Program, the Migrant research agenda, collaboration possibilities with other Migrant health advocates organizations, and the Year 2000 recommendations of the National Advisory Council. In addition, the Council will be reviewing nominations for Council membership for terms beginning in November 2000.

Anyone requiring information regarding the subject Council should contact Judy Rodgers, Migrant Health Program, staff support to the National Advisory Council on Migrant Health, Bureau of Primary Health Care, Health Resources and Services Administration, 4350 East-West Highway, Bethesda, Maryland 20814, Telephone (301) 594-4304.

Agenda items are subject to change as priorities indicate.

Dated: January 10, 2000.
Jane M. Harrison,
Director, Division of Policy Review and Coordination.

[FR Doc. 00-1032 Filed 1-14-00; 8:45 am]

BILLING CODE 4160-15-P